DEPARTMENT OF TRANSPORTATION

Federal Aviation Administration

14 CFR Part 95

[Docket No. 30931; Amdt. No. 510]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, December 12, 2013.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on November 8, 2013.
John Duncan,
Acting Director, Flight Standards Service.

Adoption of the Amendment

Accordingly, pursuant to the authority delegated to me by the Administrator, part 95 of the Federal Aviation Regulations (14 CFR part 95) is amended as follows effective at 0901 UTC, June 30, 2011.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 510 Effective date, December 12, 2013]
From | To | MEA
§ 95.6001 Victor Routes-U.S
§ 95.6009 VOR Federal Airway V9 is Amended to Read in Part
MC COMB, MS VORTAC | *ROMAR, MS FIX | **3000
*4000—MRA
**1900—MOCA
*ROMAR, MS FIX | MAGNOLIA, MS VORTAC | **3000
*4000—MRA
**1900—MOCA
§ 95.6018 VOR Federal Airway V18 is Amended to Read in Part
MONROE, LA VORTAC | MAGNOLIA, MS VORTAC | 2500
§ 95.6048 VOR Federal Airway V48 is Amended to Read in Part
PEORIA, IL VORTAC | MAROC, IL FIX | *3000
*2400—MOCA
MAROC, IL FIX | PONTIAC, IL VOR/DME | 2500
§ 95.6066 VOR Federal Airway V66 is Amended to Read in Part
BROOKWOOD, AL VORTAC | LAGRANGE, GA VORTAC | 3400
§ 95.6070 VOR Federal Airway V70 is Amended to Read in Part
U.S./MEXICO BORDER | BROWNSVILLE, TX VORTAC | *5000
*1600—MOCA
§ 95.6083 VOR Federal Airway V83 is Amended to Read in Part
ALAMOSA, CO VORTAC | BLOKE, CO FIX
| E BND | 14000
| W BND | 10400
BLOKE, CO FIX | *GOSIP, CO FIX | 14000
*14000—MCA GOSIP, CO FIX, SW BND
§ 95.6091 VOR Federal Airway V91 is Amended to Read in Part
GLENS FALLS, NY VORTAC | *ENSON, VT FIX | **10000
*10000—MCA ENSON, VT FIX, SW BND
**5000—GNSS MEA
ENSON, VT FIX | WEIGH, VT FIX | *4000
*2800—MOCA
WEIGH, VT FIX | BURLINGTON, VT VOR/DME
| N | BND 3000
| S | BND 4000
§ 95.6119 VOR Federal Airway V119 is Amended to Read in Part
NEWCOMBE, KY VORTAC | *CROUP, OH FIX | 2800
*5500—MCA CROUP, OH FIX, NE BND
CROUP, OH FIX | HENDERSON, WV VORTAC | 5500
§ 95.6140 VOR Federal Airway V140 is Amended to Read in Part
NASHVILLE, TN VORTAC | *LENON, TN FIX | **3000
*6500—MRA
**2400—MOCA
*LENON, TN FIX | HARME, TN FIX | **3000
*6500—MRA
**2400—MOCA
HARME, TN FIX | LIVINGSTON, TN VORTAC | 3200
§ 95.6141 VOR Federal Airway V141 is Amended to Read in Part
RUCKY, VT FIX | *BURLINGTON, VT VOR/DME | 6300
*4000—MCA BURLINGTON, VT VOR/DME, SE BND
§ 95.6161 VOR Federal Airway V161 is Amended to Read in Part
LLANO, TX VORTAC | *BUILT, TX FIX | **6000
*6000—MRA
**3200—MOCA
*BUILT, TX FIX | DUFFA, TX FIX | **6000
*6000—MRA
**2900—MOCA
§ 95.6198 VOR Federal Airway V198 is Amended to Read in Part
PEARL, LA FIX | MINNI, MS FIX | *2300
*1300—MOCA
MINNI, MS FIX | ELSIE, MS FIX | *3500
*1300—MOCA
ELSIE, MS FIX | *ROMMY, MS FIX | **2800
*4000—MRA
**1300—MOCA
SEMINOLE, FL VORTAC | LLOYD, FL FIX | 2000
§ 95.6210 VOR Federal Airway V210 is Amended to Read in Part
ALAMOSA, CO VORTAC | BLOKE, CO FIX
| E BND | 14000
| W BND | 10400
BLOKE, CO FIX | *GOSIP, CO FIX | 14000
*14000—MCA GOSIP, CO FIX, SW BND
§ 95.6229 VOR Federal Airway V229 is Amended to Read in Part
MUDDI, VT FIX | *BURLINGTON, VT VOR/DME | 6000
*3100—MCA BURLINGTON, VT VOR/DME, SE BND
§ 95.6240 VOR Federal Airway V240 is Amended to Read in Part
PEARL, LA FIX | MINNI, MS FIX | *2300
*1300—MOCA
MINNI, MS FIX | ELSIE, MS FIX | *3500
*1300—MOCA
ELSIE, MS FIX | *ROMMY, MS FIX | **2800
*4000—MRA
**1300—MOCA
§ 95.6487 VOR Federal Airway V487 is Amended to Read in Part
WEIGH, VT FIX | BURLINGTON, VT VOR/DME
| N BND | 3000
| S BND | 4000
§ 95.6568 VOR Federal Airway V568 is Amended to Read in Part
LLANO, TX VORTAC | *BUILT, TX FIX | **6000
*6000—MRA
**3200—MOCA
§ 95.6573 VOR Federal Airway V573 is Amended to Read in Part
TEXARKANA, AR VORTAC | ELMMO, AR FIX
| SW BND | *3500
| NE BND | *5500
*2600—MOCA
ELMMO, AR FIX | *MARKI, AR FIX | **5500
*5500—MCA MARKI, AR FIX, SW BND
**2600—MOCA
MARKI, AR FIX | HOT SPRINGS, AR VOR/DME | *3500
*2700—MOCA
§ 95.6586 VOR Federal Airway V586 is Amended to Read in Part
MACON, MO VOR/DME | QUINCY, IL VORTAC | 2700
QUINCY, IL VORTAC | PEORIA, IL VORTAC | 2500
PEORIA, IL VORTAC | MAROC, IL FIX | *3000
*2400—MOCA
MAROC, IL FIX | PONTIAC, IL VOR/DME | 2500

From | To | MEA | MAA
§95.7001 JET ROUTES
§ 95.7190 Jet Route J190 MAA is Amended to Read in Part
#SLATE RUN, PA VORTAC | BINGHAMTON, NY VORTAC | 18000 | 45000
#USE SLATE RUN R-072 TO BINGHAMTON

Airway Segment: From | Airway Segment: To | Changeover points: Distance | Changeover points: From
§ 95.8003 VOR Federal Airway Changeover Point
V210 is Amended To Delete Changeover Point
ALAMOSA, CO VORTAC | LAMAR, CO VOR/DME | 60 | ALAMOSA.

[FR Doc. 2013-27404 Filed 11-14-13; 8:45 am]

BILLING CODE 4910-13-P